DEPARTMENT OF THE INTERIOR

Bureau of Land Management

[LLES934000-L13200000-EL0000; ALES 57824]

Notice of Invitation To Participate; Coal Exploration License Application ALES 57824, Alabama

AGENCY: Bureau of Land Management, Interior.

ACTION: Notice.

SUMMARY: Members of the public are invited to participate with Cahaba Resources, LLC, on a pro rata cost-sharing basis in a program for the exploration of coal deposits owned by the United States of America in lands located in Tuscaloosa County, Alabama, encompassing 760 acres.

DATES: Any party seeking to participate in this exploration program must send written notice to both the Bureau of Land Management (BLM) and Cahaba Resources, LLC, to the addresses provided in the ADDRESSES section below, no later than March 6, 2014, or 10 calendar days after the last publication of this Notice in the Tuscaloosa News newspaper, whichever is later. This Notice will be published once a week for 2 consecutive weeks in the Tuscaloosa News, Tuscaloosa, Alabama. Such written notice must refer to serial number ALES 57824.

ADDRESSES: The proposed exploration license and plan are available for review from 9 a.m. to 4 p.m., Monday through Friday, in the following offices (serialized under number ALES 57824): BLM Eastern States State Office, 7450 Boston Boulevard, Springfield, VA; and BLM Southeastern States Field Office, 411 Briarwood Drive, Suite 404, Jackson, MS.

A written notice to participate in the exploration license should be sent to Cahaba Resources, LLC, P.O. Box 122, Brookwood, AL 35444; and to the State Director, BLM Eastern States, 7450 Boston Boulevard, Springfield, VA 22153.

FOR FURTHER INFORMATION CONTACT: Michael Glasson, Solid Minerals Program Lead, BLM Eastern States, 7450 Boston Boulevard, Springfield, VA, by email at mglasson@blm.gov or by telephone at 202-912-7723. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate. Cahaba Resources, LLC, has applied to the BLM for a coal exploration license on private surface with federally owned minerals in Tuscaloosa County, Alabama.

The lands to be explored for coal deposits in exploration license ALES 57824 are described as follows:

Huntsville Meridian, Alabama

T. 18 S., R. 9 W.,

Sec. 26, S½NE¼, E½SW¼, SE¼;

Sec. 34, SE¼NE¼;

Sec. 35, N½NE¼, SE¼NE¼, N½NW¼, SW¼NW¼, NW¼SW¼, E½SE¼, and SW¼SE¼.

Containing 760 acres.

The Federal coal within the lands described for exploration license ALES 57824 is currently unleased for development of Federal coal reserves.

The proposed exploration program is fully described and will be conducted pursuant to an exploration plan to be approved by the BLM.

John Ruhs,
Acting State Director.

[FR Doc. 2014-02267 Filed 2-3-14; 8:45 am]

BILLING CODE 4310-GJ-P